DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Southeast Region Individual Fishing Quota (IFQ) Programs.

OMB Control Number: 0648-0551.

Form Number(s): None.

Type of Request: Regular (extension of a currently approved information collection).

Number of Respondents: 1,850.

Average Hours per Response: Wreckfish share transfer, 15 minutes; IFQ online account renewal, 12 minutes; dealer landing transaction report, 6 minutes; notification of landing, 5 minutes; cost recovery fee submission, landing correction form, IFQ share transfer, IFQ allocation transfer, 3 minutes each; close account, 2 minutes.

Burden Hours: 1,760.

Needs and Uses: This request is for an extension of a currently approved information collection.

The Magnuson-Stevens Fishery Conservation and Management authorizes the Gulf of Mexico Fishery Management Council and South Atlantic Fishery Management Council to prepare and amend fishery management plans for any fishery in waters under their jurisdictions. The National Oceanic and Atmospheric Administration (NOAA), National Marine Fisheries Service (NMFS) manages three individual fishing quota (IFQ)/individual transferable quota (ITQ) programs in the Southeast Region. In 1992, an ITQ program for commercial wreckfish in the South Atlantic EEZ was implemented through Amendment 5 to the Fishery Management Plan for the Snapper-Grouper Fishery in the South Atlantic Region (South Atlantic Snapper-Grouper FMP). In 2007, a commercial red snapper IFQ program was implemented through Amendment 26 to the Fishery Management Plan for Gulf Reef Fish Resources in the Gulf of Mexico) Gulf Reef Fish FMP. In 2010, a commercial grouper and tilefish IFQ program was implemented through Amendment 29 to the Gulf Reef Fish FMP.

The collection of information addresses IFQ share certificate and allocation debits and transfers, as well as collection of landings information necessary to operate, administer, and review management of commercial red snapper, and grouper/tilefish in the Gulf of Mexico and wreckfish in the South Atlantic.

Affected Public: Business or other for-profit organizations.

Frequency: Annually and on occasion.

Respondent's Obligation: Mandatory.

This information collection request may be viewed at reginfo.gov. Follow the instructions to view Department of Commerce collections currently under review by OMB.

Written comments and recommendations for the proposed information collection should be sent within 30 days of publication of this notice to OIRA_Submission@omb.eop.gov or fax to (202) 395-5806.

Dated: November 13, 2014.
Glenna Mickelson,
Management Analyst, Office of the Chief Information Officer.

[FR Doc. 2014-27237 Filed 11-17-14; 8:45 am]

BILLING CODE 3510-22-P